DEPARTMENT OF THE INTERIOR

Bureau of Indian Affairs

[256A2100DD/AAKE200000/A0A501010.000000]

Land Acquisitions; Prairie Island Indian Community, Elk Run Site, City of Pine Island, Olmstead County, Minnesota

AGENCY: Bureau of Indian Affairs, Interior.

ACTION: Notice.

SUMMARY: The Assistant Secretary—Indian Affairs made a final agency determination to acquire in trust 397.77 acres, more or less, of land known as the Elk Run Site in the City of Pine Island, Olmstead County, Minnesota for gaming and other purposes.

DATES: This final determination was made on December 10, 2024.

FOR FURTHER INFORMATION CONTACT: Ms. Paula L. Hart, Director, Office of Indian Gaming, Office of the Assistant Secretary—Indian Affairs, Washington, DC 20240, IndianGaming@bia.gov; (202) 219-4066.

SUPPLEMENTARY INFORMATION: On the date in the DATES section of this notice, the Assistant Secretary—Indian Affairs made a final agency determination to acquire the Elk Run Site, consisting of 397.77 acres, more or less, in trust for the Prairie Island Indian Community under the authority of the Indian Reorganization Act of June 18, 1934, 25 U.S.C. 5108.

The Assistant Secretary—Indian Affairs, on behalf of the Secretary of the Interior, will immediately acquire title to the Elk Run Site in the name of the United States of America in trust for Prairie Island Indian Community upon fulfillment of all Departmental requirements. The legal descriptions for the Elk Run site are as follows:

Legal Description of Property

The part of the Southwest Quarter of the Southeast Quarter and the Southeast Quarter of the Southeast Quarter, of Section 1, Township 108 North, Range 15 West, Olmsted County, Minnesota, lying northerly and easterly of the following described line:

Commencing at the northwest corner of said Section 1; thence on an assumed bearing of South 00 degrees 54 minutes 41 seconds East along the west line of said Section 1 a distance of 778.98 feet; thence South 44 degrees 55 minutes 49 seconds East 764.84 feet to the north line of said Southwest Quarter of the Northwest Quarter to the point of beginning of the line to be described; thence South 44 degrees 55 minutes 49 seconds East 5121.99 feet; thence southeasterly 389.04 feet to the south line of said Section 1 along a tangential curve concave to the southwest having a radius of 1083.65 feet and a central angle of 20 degrees 34 minutes 11 seconds and there terminating.

AND

That part of the Southwest Quarter of the Southeast Quarter, and Southeast Quarter of the Southeast Quarter, of Section 1, Township 108 North, Range 15 West, Olmsted County, Minnesota, lying southerly and westerly of the following described line:

Commencing at the northwest corner of said West Half of the Northwest Quarter; thence on an assumed bearing of South 00 degrees 54 minutes 41 seconds East along the west line of said West Half of the Northwest Quarter 778.98 feet to the point of beginning of the line to be described; thence South 44 degrees 55 minutes 49 seconds East 5886.83 feet; thence southeasterly 389.04 feet to the south line of said Section 1 along a tangential curve concave to the southwest having a radius of 1083.65 feet and a central angle of 20 degrees 34 minutes 11 seconds and there terminating.

LESS:

That part of the Southwest Quarter of the Southeast Quarter of Section 1, Township 108 North, Range 15 West, Olmsted County, Minnesota, described as follow:

Commencing at the northwest corner of said Section 1; thence on an assumed bearing of South 00°54′41″ East along the west line of the Northwest Quarter of said Section 1 for a distance of 778.98 feet; thence South 44°55′49″ East 4566.75 feet to the point of beginning; thence continuing South 44°55′49″ East 755.78 feet; thence South 88°57′41″ West 1033.47 feet to the west line of said Southwest Quarter of the Southeast Quarter; thence North 01°13′47″ West along said west line of the Southwest Quarter of the Southeast Quarter 515.04 feet; thence easterly a distance of 74.28 feet along a curve concave to the south and not tangent with the last described line, said curve has a radius of 22818.32 feet, a central angle of 00°11′11″, and the chord of said curve bears South 89°57′15″ East 74.28 feet; thence South 89°51′39″ East tangent to said curve 7.10 feet; thence North 00°09′26″ East 40.00 feet; thence South 89°51′39″ East 429.10 feet to the point of beginning.

AND

That part of the Southeast Quarter of the Southwest Quarter of Section 1, Township 108 North, Range 15 West, Olmsted County, Minnesota, which lies easterly of the easterly right of-way line of State Highway 52.

LESS:

That part of the Southeast Quarter of the Southwest Quarter and that part of the Southwest Quarter of the Southwest Quarter, all in Section 1, Township 108 North, Range 15 West, Olmsted County, Minnesota, described as follows:

Commencing at the northwest corner of said Section 1; thence on an assumed bearing of South 00°54′41″ East along the west line of the Northwest Quarter of said Section 1 for a distance of 778.98 feet; thence South 44°55′49″ East 4566.75 feet; thence continuing South 44°55′49″ East 755.78 feet; thence South 88°57′41″ West 1033.47 feet to the east line of said Southeast Quarter of the Southwest Quarter and the point of beginning; thence North 01°13′47″ West along said east line of the Southeast Quarter of the Southwest Quarter 515.04 feet; thence westerly a distance of 78.47 feet along a curve concave to the south and not tangent with the last described line, said curve has a radius of 22818.32 feet, a central angle of 00°11′49″, and the chord of said curve bears South 89°51′15″ West 78.47 feet; thence South 89°45′20″ West tangent to said curve 239.41 feet; thence North 00°14′38″ West 35.00 feet; thence South 89°45′20″ West 267.50 feet; thence southwesterly a distance of 466.08 feet along a tangential curve concave southerly having a radius of 1844.86 and a central angle of 14°28′30″; thence South 14°43′05″ East not tangent to said curve 5.00 feet; thence southwesterly a distance of 389.36 feet along a curve concave southeasterly and not tangent with the last described line, said curve has a radius of 1839.86 feet, a central angle of 12°07′31″, and the chord of said curve bears South 69°13′05″ West 388.64 feet; thence South 27°44′48″ West not tangent to said curve 56.31 feet; thence South 27°00′55″ East 356.65 feet; thence North 88°57′41″ East 1283.97 feet to the point of beginning.

AND

That part of the West Half of the Northeast Quarter of Section 12, Township 108 North, Range 15 West, Olmsted County, Minnesota, described as follows:

Commencing for a place of beginning at the northwest corner of the Northeast Quarter of said Section and running thence East along the north line of said Section a distance of 1304.2 feet to the northeast corner of said West Half of the Northeast Quarter; thence South along the east line of said West Half a distance of 2101 feet to the northerly right-of-way line of U.S. Trunk Highway Number 52; thence Northwesterly along said northerly right-of-way line a distance of 1816.68 feet to the west line of said Northeast Quarter; thence North a distance of 871.6 feet to the place of beginning.

AND

That part of the East Half of the Northwest Quarter of Section 12, Township 108 North, Range 15 West, Olmsted County, Minnesota, described as follows:

Commencing for a place of beginning at the northeast corner of the Northwest Quarter of said Section 12 and running thence West along the north line of said Northwest Quarter a distance of 921.1 feet to a point in the northerly right-of-way line of U.S. Trunk Highway Number 52; thence southeasterly along said northerly right-of-way line a distance of 1264.65 feet to the east line of said Northwest Quarter thence North along the east line of said Northwest Quarter a distance of 871.6 feet to the place of beginning.

AND

That part of the East Half of the Northeast Quarter of Section 12, Township 108 North, Range 15 West, Olmsted County, Minnesota, lying and being north and east of Highway Number 52 and south and west of that certain Township Road, formerly known as State Highway Number 20, running northwesterly and southeasterly through said East Half of the Northeast Quarter.

AND

That part of the East Half of the Northeast Quarter of Section 12, Township 108 North, Range 15 West, Olmsted County, Minnesota, lying north and east of the Township Road.

AND

The Southeast Quarter of the Southwest Quarter of Section 6, Township 108 North, Range 14 West, Olmsted County, Minnesota.

AND

The Southwest Quarter of the Southwest Quarter of Section 6, Township 108 North, Range 14 West, Olmsted County, Minnesota.

AND

The Southeast Quarter of the Northwest Quarter and the North Half of the Southwest Quarter of the Northwest Quarter of Section 7, Township 108 North, Range 14 West, Olmsted County, Minnesota.

AND

The North Half of the Northwest Quarter of Section 7, Township 108 North, Range 14 West, Olmsted County, Minnesota.

AND

The South Half of the Southwest Quarter of the Northwest Quarter of Section 7, Township 108 North, Range 14 West, Olmsted County, Minnesota.

AND

That part of the Southwest Quarter of the Southeast Quarter of Section 1, Township 108 North, Range 15 West, Olmsted County, Minnesota, described as follow:

Commencing at the northwest corner of said Section 1; thence on an assumed bearing of South 00°54′41″ East along the west line of the Northwest Quarter of said Section 1 for a distance of 778.98 feet; thence South 44°55′49″ East 4566.75 feet to the point of beginning; thence continuing South 44°55′49″ East 755.78 feet; thence South 88°57′41″ West 1033.47 feet to the west line of said Southwest Quarter of the Southeast Quarter; thence North 01°13′47″ West along said west line of the Southwest Quarter of the Southeast Quarter 515.04 feet; thence easterly a distance of 74.28 feet along a curve concave to the south and not tangent with the last described line, said curve has a radius of 22818.32 feet, a central angle of 00°11′11″, and the chord of said curve bears South 89°57′15″ East 74.28 feet; thence South 89°51′39″ East tangent to said curve 7.10 feet; thence North 00°09′26″ East 40.00 feet; thence South 89°51′39″ East 429.10 feet to the point of beginning.

AND

That part of the Southeast Quarter of the Southwest Quarter and that part of the Southwest Quarter of the Southwest Quarter, all in Section 1, Township 108 North, Range 15 West, Olmsted County, Minnesota, described as follows:

Commencing at the northwest corner of said Section 1; thence on an assumed bearing of South 00°54′41″ East along the west line of the Northwest Quarter of said Section 1 for a distance of 778.98 feet; thence South 44°55′49″ East 4566.75 feet; thence continuing South 44°55′49″ East 755.78 feet; thence South 88°57′41″ West 1033.47 feet to the east line of said Southeast Quarter of the Southwest Quarter and the point of beginning; thence North 01°13′47″ West along said east line of the Southeast Quarter of the Southwest Quarter 515.04 feet; thence westerly a distance of 78.47 feet along a curve concave to the south and not tangent with the last described line, said curve has a radius of 22818.32 feet, a central angle of 00°11′49″, and the chord of said curve bears South 89°51′15″ West 78.47 feet; thence South 89°45′20″ West tangent to said curve 239.41 feet; thence North 00°14′38″ West 35.00 feet; thence South 89°45′20″ West 267.50 feet; thence southwesterly a distance of 466.08 feet along a tangential curve concave southerly having a radius of 1844.86 and a central angle of 14°28′30″; thence South 14°43′05″ East not tangent to said curve 5.00 feet; thence southwesterly a distance of 389.36 feet along a curve concave southeasterly and not tangent with the last described line, said curve has a radius of 1839.86 feet, a central angle of 12°07′31″, and the chord of said curve bears South 69°13′05″ West 388.64 feet; thence South 27°44′48″ West not tangent to said curve 56.31 feet; thence South 27°00′55″ East 356.65 feet; thence North 88°57′41″ East 1283.97 feet to the point of beginning.

Excepting Therefrom the Following Described Parcels

(1) That part of the Southeast Quarter of the Northeast and the Northeast Quarter of the Southeast Quarter of Section 12, Township 108 North, Range 15 West, Olmsted County, Minnesota, described as follows:

Commencing at a surveyor's monument located at the northeast corner of the Southeast Quarter of said Section 12; thence on an assumed bearing of South 00°36′36″ East along the East line of said Section 12 a distance of 172.31 feet to the north right-of-way line of Minnesota Trunk Highway Number 52; thence North 65°39′04″ West 626.00 feet along said right-of-way line; thence North 22°10′09″ East 633.60 feet to the centerline of the Township Road presently known as 59th Avenue; thence South 31°41′17″ East 246.86 feet along said centerline; thence southeasterly a distance of 337.05 feet along a tangential curve concave to the northeast having a radius of 2600.00 feet and a central angle of 07°25′39″ to the east line of the Southeast Quarter of the Northeast Quarter of said Section 12; thence South 01°24′13″ East along the east line of the Southeast Quarter of the Northeast Quarter of said Section 12, not tangent to said curve, 188.00 feet to the point of beginning.

AND

(2) That part of the Southwest Quarter of the Northwest Quarter of Section 7, Township 108 North, Range 14 West, described as follows:

Commencing at a Surveyor's monument located at the southwest corner of the Southwest Quarter of the Northwest Quarter of said Section 7; thence on an assumed bearing of the North 1°24′13″ West a distance of 188.00 feet along the West line of said Southwest Quarter of the Northwest Quarter; thence South 32°52′02″ East 221.13 feet to the South line of said Southwest Quarter of the Northwest Quarter; thence South 88°54′04″ West 115.42 feet to the point of beginning.

Also Less and Except the Following Described Parcels

Parcel C-1 Land Description

That part of the South Half of the Southeast Quarter of Section 1, Township 108 North, Range 15 West, Olmsted County, Minnesota, described as follows:

Commencing at the southwest corner of said Southeast Quarter of Section 1; thence on an assumed bearing of South 89°01′27″ East along the south line of said Southeast Quarter 1501.93 feet to the point of beginning; thence continuing South 89°01′27″ East along the south line of said Southeast Quarter 250.81 feet; thence northwesterly 741.40 feet along a non-tangential curve, concave to the southwest, to the west line of the Southeast Quarter of said Southeast Quarter, said curve has a radius of 1151.74 feet, a central angle of 36°52′58″, and the chord of said curve bears North 38°20′36″ West 728.67 feet; thence North 15°38′02″ West not tangent to said curve 663.34 feet; thence South 84°45′43″ West 1022.66 feet; thence southeasterly 490.48 feet along a non-tangential curve concave to the northeast, said curve has a radius of 501.97 feet, a central angle of 55°59′02″, and the chord of said curve bears South 37°44′18″ East 471.20 feet; thence South 65°43′49″ East tangent to said curve 720.38 feet; thence southeasterly 647.74 feet along a tangential curve, concave to the southwest, said curve has a radius of 921.74 feet, a central angle of 40°15′49″, and the chord of said curve bears South 45°35′55″ East 634.49 feet to the point of beginning.

The above-described parcel contains 16.85 acres and is subject to any easements, covenants and restrictions of record.

Parcel D-1 Land Description

That part of the East Half of the Northeast Quarter of Section 12, Township 108 North, Range 15 West, Olmsted County, Minnesota, described as follows:

Commencing at the northwest corner of said Northeast Quarter of Section 12; thence on an assumed bearing of South 89°01′27″ East along the north line of said Northeast Quarter 1501.93 feet to the point of beginning; thence continuing South 89°01′27″ East along the north line of said Northeast Quarter 250.81 feet; thence southeasterly 83.97 feet along a non-tangential curve, concave to the southwest, said curve has a radius of 1151.74 feet, a central angle of 04°10′39″, and the chord of said curve bears South 17°48′48″ East 83.95 feet; thence South 15°43′28″ East tangent to said curve 972.20 feet; thence South 29°45′39″ East 103.08 feet; thence South 13°44′23″ East 564.60 feet; thence South 30°55′39″ East 552.38 feet; thence southeasterly 219.09 feet along a tangential curve, concave to the northeast, said curve has a radius of 2206.83 feet, a central angle of 05°41′18″, and the chord of said curve bears South 33°46′17″ East 219.00 feet to the east line of said East Half of the Northeast Quarter and to a point that lies 334.93 feet north of the southeast corner of said East Half of the Northeast Quarter; thence South 00°38′43″ East not tangent to said curve and along the east line of said East Half of the Northeast Quarter 146.96 feet; thence northwesterly 336.64 feet along a non-tangential curve, concave to the northeast, said curve has a radius of 2600.00 feet, a central angle of 07°25′07″, and the chord of said curve bears North 34°38′12″ West 336.40 feet; thence North 30°55′38″ West tangent to said curve 246.86 feet; thence South 22°55′47″ West 117.64 feet; thence North 30°55′39″ West 384.85 feet; thence northwesterly 278.59 feet along a tangential curve, concave to the northeast, said curve has a radius of 1049.93 feet, a central angle of 15°12′10″, and the chord of said curve bears North 23°19′34″ West 277.77 feet; thence North 15°43′28″ West tangent to said curve 186.13 feet; thence North 33°43′44″ West 210.30 feet; thence North 09°33′15″ West 372.16 feet; thence North 15°43′28″ West 652.20 feet; thence northwesterly 156.73 feet along a tangential curve concave to the southwest, said curve has a radius of 921.74 feet, a central angle of 09°44′32″, and the chord of said curve bears North 20°35′44″ West 156.54 feet to the point of beginning.

The above-described parcel contains 11.93 acres and is subject to any easements, covenants and restrictions of record.

Parcel E-1 Land Description

That part of the Southwest Quarter of the Northwest Quarter of Section 7, Township 108 North, Range 14 West, Olmsted County, Minnesota, described as follows:

Commencing at the southwest corner of said Southwest Quarter of the Northwest Quarter of Section 7; thence on an assumed bearing of North 89°39′37″ East along the south line of said Southwest Quarter of the Northwest Quarter 115.42 feet to the point of beginning; thence continuing North 89°39′37″ East along the south line of said Southwest Quarter of the Northwest Quarter 185.96 feet; thence northwesterly 452.55 feet along a non-tangential curve concave to the northeast, said curve has a radius of 2206.83 feet, a central angle of 11°44′58″, and the chord of said curve bears North 42°29′26″ West 451.76 feet to the west line of said Southwest Quarter of the Northwest Quarter and to a point that lies 334.93 feet north of the southwest corner of said Southwest Quarter of the Northwest Quarter; thence South 00°38′43″ East along the west line of said Southwest Quarter of the Northwest Quarter 146.96 feet; thence South 32°06′48″ East 221.10 feet to the point of beginning.

The above-described parcel contains 0.83 acres and is subject to any easements, covenants and restrictions of record.

Parcel B-2 Land Description

That part of the East Half of the Southwest Quarter and the West Half of the Southeast Quarter, all in Section 1, Township 108 North, Range 15 West, Olmsted County, Minnesota, described as follows:

Commencing at the southeast corner of said East Half of the Southwest Quarter of Section 1; thence on an assumed bearing of North 00°28′22″ West along the east line of said East Half of the Southwest Quarter 1088.11 feet to the point of beginning; thence North 89°29′55″ West 1331.51 feet to the west line of said East Half of the Southwest Quarter; thence North 00°18′49″ West along the west line of said East Half of the Southwest Quarter 815.48 feet; thence South 84°34′51″ East 1180.79 feet; thence South 89°24′53″ East 1298.60 feet; thence South 89°06′04″ East 164.90 feet to the east line of said West Half of the Southeast Quarter; thence South 00°17′44″ East along the east line of said West Half of the Southeast Quarter 610.13 feet; thence North 89°06′04″ West 175.51 feet; thence South 84°45′43″ West 1022.66 feet; thence North 89°29′55″ West 112.27 feet to the point of beginning.

The above-described parcel contains 42.98 acres and is subject to any easements, covenants and restrictions of record.

Parcel C-2 Land Description

That part of the East Half of the Southeast Quarter, Section 1, Township 108 North, Range 15 West, Olmsted County, Minnesota, described as follows:

Commencing at the southeast corner of said East Half of the Southeast Quarter of Section 1; thence on an assumed bearing of North 00°07′07″ West along the east line of said East Half of the Southeast Quarter 1201.60 feet to the point of beginning; thence continuing North 00°07′07″ West along the east line of said East Half of the Southeast Quarter 610.10 feet; thence North 89°06′05″ West 1309.09 feet to the west line of said East Half of the Southeast Quarter; thence South 00°17′44″ East along the west line of said East Half of the Southeast Quarter 610.13 feet; thence South 89°06′05″ East 1307.21 feet to the point of beginning.

The above-described parcel contains 18.32 acres and is subject to any easements, covenants and restrictions of record.

Parcel D-2 Land Description

That part of the Northwest Quarter of the Southwest Quarter and the South Half of the Southwest Quarter and the Southwest Quarter of the Southeast Quarter all in Section 6, Township 108 North, Range 14 West, Olmsted County, Minnesota, described as follows:

Commencing at the southwest corner of said Southwest Quarter of Section 6; thence on an assumed bearing of North 00°07′07″ West along the west line of said Southwest Quarter 1201.60 feet to the point of beginning; thence continuing North 00°07′07″ West along the west line of said Southwest Quarter 610.10 feet; thence South 55°42′31″ East 737.89 feet; thence South 00°10′16″ East 80.00 feet to the north line of said South Half of the Southwest Quarter; thence North 89°35′26″ East along the north line of said South Half of the Southwest Quarter 1930.47 feet to the northeast corner of said South Half of the Southwest Quarter; thence North 89°33′39″ East along the north line of said Southwest Quarter of the Southeast Quarter 522.17 feet to the centerline of the Township Road; thence South 36°29′59″ East along said centerline 416.88 feet; thence South 89°33′13″ West 768.56 feet to the west line of said Southwest Quarter of the Southeast Quarter; thence North 00°16′06″ West along the west line of said Southwest Quarter of the Southeast Quarter 161.54 feet; thence northwesterly 652.55 feet along a non-tangential curve, concave to the southwest, said curve has a radius of 2211.83 feet, a central angle of 16°54′14″, and the chord of said curve bears North 81°57′27″ West 650.18 feet; thence South 88°41′02″ West not tangent to said curve 1896.57 feet to the point of beginning.

The above-described parcel contains 14.83 acres and is subject to any easements, covenants and restrictions of record.

Parcel C-3 Land Description

That part of the South Half of the Southwest Quarter and the Northwest Quarter of the Southwest Quarter of Section 1, Township 108 North, Range 15 West, Olmsted County, Minnesota, described as follows:

Commencing at the southwest corner of said South Half of the Southwest Quarter of Section 1; thence on an assumed bearing of North 00°09′22″ West along the west line of said South Half of the Southwest Quarter and along the west line of said Northwest Quarter of the Southwest Quarter 1625.14 feet to the northeasterly right of way line of Trunk Highway No. 52 per the Minnesota Department of Transportation Right of Way Plat No. 55-30 and to the point of beginning; thence southeasterly 480.53 feet along a non-tangential curve, concave to the southwest, and along said northeasterly right of way line of Trunk Highway No. 52, said curve has a radius of 3999.88 feet, a central angle of 06°53′00″ and the chord of said curve bears South 50°48′44″ East 480.24 feet; thence southeasterly along said northeasterly right of way line of Trunk Highway No. 52 and along a Euler Spiral Curve which falls 100.00 feet northeasterly of and parallel with the Euler Spiral Curve on the existing right of way acquisition line per said Minnesota Department of Transportation Right of Way Plat No. 55-30, the chord of said Euler Spiral Curve bears South 46°37′48″ East 153.59 feet; thence South 46°15′24″ East along said northeasterly right of way line of Trunk Highway No. 52 a distance of 1768.30 feet to the south line of said South Half of the Southwest Quarter; thence South 89°47′24″ East along the south line of said South Half of the Southwest Quarter 160.50 feet; thence North 22°45′42″ West 1188.39 feet; thence North 89°29′55″ West 129.21 feet to the east line of the Southwest Quarter of said Southwest Quarter; thence North 00°18′49″ West along the east line of said Southwest Quarter of the Southwest Quarter and along the east line of said Northwest Quarter of the Southwest Quarter 815.48 feet; thence North 84°34′51″ West 1335.50 feet to the west line of said Northwest Quarter of the Southwest Quarter; thence South 00°09′22″ East along the west line of said Northwest Quarter of the Southwest Quarter 406.41 feet to the point of beginning.

The above-described parcel contains 35.52 acres and is subject to any easements, covenants and restrictions of record.

Parcel D-3 Land Description

That part of the Northeast Quarter of the Northwest Quarter, Section 12, Township 108 North, Range 15 West, Olmsted County, Minnesota, described as follows:

Commencing at the northwest corner of said Northwest Quarter of Section 12; thence on an assumed bearing of South 89°47′24″ East along the north line of said Northwest Quarter 1756.95 feet to the northeasterly right of way line of Trunk Highway No. 52 per the Minnesota Department of Transportation Right of Way Plat No. 55-15 and to the point of beginning; thence South 46°15′24″ East along said northeasterly right of way line of Trunk Highway No. 52, a distance of 1012.61 feet; thence North 39°13′29″ West 903.04 feet to the north line of said Northeast Quarter of the Northwest Quarter; thence North 89°47′24″ West 160.50 feet to the point of beginning.

The above-described parcel contains 1.28 acres and is subject to any easements, covenants and restrictions of.

(Olmsted County Parcel IDs: 850131079584, 850143079564, 850134079589, 850132079567, 851221079590, 851212038600, 851214079569, 850144078534, 850144078533, 850144079565, 850144079566, 840633079595, 840634079597, 840634078541, 840633078539, 851211079570, 840721039660, 840724039662, 851214079571, 840723079573)

(The “Subject Property”).

Authority: This notice is published in the exercise of authority delegated by the Secretary of the Interior to the Assistant Secretary—Indian Affairs by 209 Departmental Manual 8.1, and is published to comply with the requirements of 25 CFR 151.12 (c)(2)(ii) that notice of the decision to acquire land in trust be promptly provided in the Federal Register.

Bryan Newland,
Assistant Secretary—Indian Affairs.

[FR Doc. 2024-29440 Filed 12-12-24; 8:45 am]

BILLING CODE 4337-15-P